DEPARTMENT OF HEALTH AND HUMAN SERVICES

Food and Drug Administration

[Docket No. FDA-2020-N-0907]

Medical Device User Fee Amendments for Fiscal Years 2023 Through 2027; Public Meeting; Request for Comments; Postponement

AGENCY: Food and Drug Administration, HHS.

ACTION: Notice of public meeting; postponed.

SUMMARY: The Food and Drug Administration (FDA) is announcing that the public meeting entitled “Medical Device User Fee Amendments for Fiscal Years 2023 Through 2027; Public Meeting; Request for Comments” that was scheduled in the Federal Register on April 3, 2020, to take place on May 5, 2020, is postponed until further notice.

DATES: The public meeting will be rescheduled for a future date. Information about the rescheduled meeting will be provided when available. Submit either electronic or written comments on the medical device user fee program and suggestions regarding the commitments FDA should propose for the next reauthorized program.

FOR FURTHER INFORMATION CONTACT: Ellen Olson, Center for Devices and Radiological Health, Food and Drug Administration, Bldg. 66, Rm. 1664, 10903 New Hampshire Ave., Silver Spring, MD 20993, 301-796-4322, ellen.olson@fda.hhs.gov or CDRH-OPEQ-StrategicInitiatives@fda.hhs.gov.

SUPPLEMENTARY INFORMATION: The public meeting entitled “Medical Device User Fee Amendments for Fiscal Years 2023 Through 2027; Public Meeting; Request for Comments” was originally announced in the Federal Register of March 6, 2020 (85 FR 13165), and was initially scheduled for April 7, 2020. On April 3, 2020, the meeting was postponed to May 5, 2020, and was planned to take place by webcast only due to extenuating circumstances (85 FR 18992). FDA continues to evaluate whether and how to proceed with upcoming scheduled meetings while our day-to-day operations are impacted by the COVID-19 public health emergency, and we have decided to postpone this public meeting until further notice. Information on the rescheduled meeting will be provided in the future when available. The web page for the “Medical Device User Fee Amendments for Fiscal Years 2023 Through 2027; Public Meeting” is available at https://www.fda.gov/medical-devices/workshops-conferences-medical-devices/2020-medical-device-meetings-and-workshops. Interested persons may continue to submit comments on the medical device user fee program and suggestions regarding the commitments FDA should propose for the next reauthorized program to the public docket.

Dated: April 14, 2020.
Lowell J. Schiller,
Principal Associate Commissioner for Policy.

[FR Doc. 2020-08167 Filed 4-16-20; 8:45 am]

BILLING CODE 4164-01-P